NATIONAL CREDIT UNION ADMINISTRATION

Sunshine Act; Notice of Agency Meeting

TIME AND DATE: 10:00 a.m., Thursday, September 28, 2017.

PLACE: Board Room, 7th Floor, Room 7047, 1775 Duke Street (All visitors must use Diagonal Road Entrance), Alexandria, VA 22314-3428.

STATUS: Open.

MATTERS TO BE CONSIDERED:

1. Corporate Stabilization Fund Quarterly Report.

2. NCUA's Rules and Regulations, Accuracy of Advertising and Notice of Insured Status.

3. NCUA's 2018-2022 Strategic Plan.

4. Closing the Corporate Stabilization Fund and Setting the Normal Operating Level.

FOR FURTHER INFORMATION CONTACT: Gerard Poliquin, Secretary of the Board, Telephone: 703-518-6304

Gerard Poliquin,
Secretary of the Board.

[FR Doc. 2017-20421 Filed 9-20-17; 4:15 pm]

BILLING CODE 7535-01-P